DEPARTMENT OF COMMERCE

Foreign-Trade Zones Board

[Order No. 1624]

Approval for Expanded Manufacturing Authority, Foreign-Trade Subzone 82D, Sony Electronics Inc. (Digital Print Media Products), Dothan, Alabama

Pursuant to its authority under the Foreign-Trade Zones Act of June 18, 1934, as amended (19 U.S.C. 81a-81u), the Foreign-Trade Zones Board (the Board) adopts the following Order:

Whereas, Sony Electronics Inc., operator of Subone 82D, has requested an expansion of the scope of manufacturing authority approved within Subzone 82D in Dothan, Alabama, (FTZ Docket 68-2008, filed December 11, 2008);

Whereas, notice inviting public comment has been given in the Federal Register (73 FR 78290, 12/22/2008) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand the scope of manufacturing authority under zone procedures within Subzone 82D, as described in the application and Federal Register notice, is approved, subject to the FTZ Act and the Board's regulations, including Section 400.28.

Signed at Washington, DC, this 12th day of June 2009.

Ronald K. Lorentzen,
Acting Assistant Secretary of Commerce for Import Administration, Alternate Chairman, Foreign-Trade Zones Board.
Attest:
Andrew McGilvray,
Executive Secretary.

[FR Doc. E9-14630 Filed 6-19-09; 8:45 am]

BILLING CODE 3510-DS-S